DEPARTMENT OF THE INTERIOR

National Park Service

[NPS-AKR-LACL-ANIA-WRST; 9924-PYS]

Notice of Public Meeting for the National Park Service (NPS) Alaska Region's Subsistence Resource Commission (SRC) Program

AGENCY: National Park Service, Interior.

SUMMARY: The Lake Clark National Park SRC, the Aniakchak National Monument SRC, and the Wrangell-St. Elias National Park SRC will meet to develop and continue work on NPS subsistence program recommendations and other related subsistence management issues. The NPS SRC program is authorized under Title VIII, Section 808 of the Alaska National Interest Lands Conservation Act, Public Law 96-487, to operate in accordance with the provisions of the Federal Advisory Committee Act. The Federal Advisory Committee Act (Pub. L. 92-463, 86 Stat. 770) requires that public notice of these meetings be announced in the Federal Register.

Public Availability of Comments: These meetings are open to the public and will have time allocated for public testimony. The public is welcome to present written or oral comments to the SRC. Each meeting will be recorded and meeting minutes will be available upon request from the park superintendent for public inspection approximately six weeks after each meeting. Before including your address, telephone number, e-mail address, or other personal identifying information in your comment, you should be aware that your entire comment—including your personal identifying information—may be made publicly available at any time. While you can ask us in your comment to withhold your personal identifying information from public review, we cannot guarantee that we will be able to do so.

If the meeting dates and locations are changed, a notice will be published in local newspapers and announced on local radio stations prior to the meeting date. SRC meeting locations and dates may need to be changed based on inclement weather or exceptional circumstances.

Lake Clark National Park SRC Meeting Date and Location: The Lake Clark National Park SRC will meet at the Nondalton Community Center, (907) 294-2288 in Nondalton, Alaska on Thursday, September 22, 2011, from 11 a.m. to 5 p.m. or as soon as business is completed.

For Further Information On the Lake Clark National Park SRC Meeting Contact: Mary Mc Burney, Subsistence Manager, (907) 235-7891 or Clarence Summers, Subsistence Manager, NPS Alaska Regional Office, at (907) 644-3603. If you are interested in applying for Lake Clark National Park SRC membership contact the Superintendent, 240 W. 5th Avenue, Suite 236, Anchorage, AK 99501, (907) 644-3626, or visit the park Web site at: http://www.nps.gov/lacl/parkmgmt/index.htm.

Aniakchak National Monument SRC Meeting Date and Location: The Aniakchak National Monument SRC will meet at the Chignik Lake Community Subsistence Hall, (907) 749-2470, in Chignik Lake, Alaska on Thursday, October 6, 2011, from 1 p.m. to 4 p.m. or as soon as business is completed.

For Further Information On The Aniakchak National Monument Src Meeting Contact: Mary Mc Burney, Subsistence Manager, (907) 235-7891, or Clarence Summers, Subsistence Manager, NPS Alaska Regional Office, at (907) 644-3603. If you are interested in applying for Aniakchak National Monument SRC membership contact the Superintendent, P.O. Box 7, King Salmon, AK 99613, (907) 246-3305, or visit the park Web site at: http://www.nps.gov/ania/parkmgmt/index.htm.

Wrangell-St. Elias National Park SRC Meeting Date and Location: The Wrangell-St. Elias National Park SRC will meet at the Northway Tribal Hall, (907) 778-2311, in Northway, Alaska on Thursday, October 6, 2011, from 9:30 a.m. to 5 p.m. An evening session may be held at the call of the chair. The meeting is scheduled to reconvene on Friday, October 7, 2011, at 9 a.m., at the Tanacross Community Hall, (907) 778-2311, in Tanacross, Alaska. The meeting is scheduled to end at 5 p.m. or as soon as business is completed.

For Further Information On the Wrangell-St. Elias National Park SRC Meeting Contact: Barbara Cellarius, Subsistence Manager, (907) 822-7236, or Clarence Summers, Subsistence Manager, NPS Alaska Regional Office, at (907) 644-3603. If you are interested in applying for Wrangell-St. Elias National Park SRC membership contact the Superintendent, Wrangell-St. Elias National Park & Preserve, Mile 106.8 Richardson Highway, PO Box 439, Copper Center, AK 99573, (907) 822-5234, or fax (907) 822-7216 or visit the park Web site at: http://www.nps.gov/wrst/contacts.htm.

Proposed SRC Meeting Agenda

The proposed meeting agenda for each meeting includes the following:

1. Call to order

2. Welcome and Introductions

3. Administrative Announcements

4. Approve Agenda

5. Approval of Minutes

6. SRC Purpose and Membership

7. SRC Member Reports

8. National Park Service Reports

a. Subsistence Manager

b. Resource Management

c. Ranger Report

9. Federal Subsistence Board Update

a. Wildlife

b. Fisheries

10. Alaska Board of Game Update

11. Old Business

a. Subsistence Uses of Bones, Horn, Antlers and Plants Environmental Assessment Update

12. New Business

a. 2011 SRC Chairs' Workshop

13. Public and other Agency Comments

14. SRC Work Session

15. Select Time and Location for Next Meeting

16. Adjourn Meeting

Victor W. Knox,
Deputy Regional Director, Alaska.

[FR Doc. 2011-23163 Filed 9-9-11; 8:45 am]

BILLING CODE 4312-GY-P